ENVIRONMENTAL PROTECTION AGENCY

40 CFR Part 52

[Il223-1b; FRL-7784-7]

Approval and Promulgation of Implementation Plans; Illinois

AGENCY: Environmental Protection Agency (EPA).

ACTION: Proposed rule.

SUMMARY: The EPA is proposing to approve a site-specific revision to the Illinois volatile organic compound (VOC) State Implementation Plan (SIP) for Argonne National Laboratory's (Argonne) degreasing operations. Argonne is a United States government-owned research and development facility in Argonne, DuPage County, Illinois. By its submittal dated March 11, 2004, the Illinois Environmental Protection Agency (Illinois EPA) requested that EPA approve an Adjusted Standard, from Illinois' cold cleaning regulations, for Argonne's solvent cleaning operations because its research activities require sample surface areas to be completely free of any residual contamination, necessitating the use of cleaning solvents that exceed the vapor pressure limitations of Illinois' cold cleaning regulations. EPA is approving this adjusted standard because there are no feasible alternatives for the preparation of sample materials and associated apparatus used for research and development at Argonne's DuPage facility and also because no more than one ton per year of solvents are used for cold cleaning. In the final rules section of this Federal Register, EPA is approving the SIP revision as a direct final rule without prior proposal, because EPA views this as a noncontroversial revision and anticipates no adverse comments. A detailed rationale for the approval is set forth in the direct final rule. If no adverse comments are received in response to this proposed rule, no further activity is contemplated in relation to this proposed rule. If EPA receives adverse comments, the direct final rule will be withdrawn and all public comments received will be addressed in a subsequent final rule based on this proposed rule. EPA will not institute a second comment period on this action. Any parties interested in commenting on this action should do so at this time.

DATES: Written comments must be received on or before August 27, 2004.

Comments may also be submitted electronically or through hand delivery/courier, please follow the detailed instructions described in the ADDRESS section and the SUPPLEMENTARY INFORMATION section of the related direct final rule which is published in the Rules section of this Federal Register.

ADDRESSES: Written comments should be sent to: J. Elmer Bortzer, Chief, Air Programs Branch (AR-18J), EPA Region 5, 77 West Jackson Boulevard, Chicago, Illinois 60604-3590. bortzer.jay@epa.gov.

FOR FURTHER INFORMATION CONTACT: Steven Rosenthal, Environmental Engineer, Criteria Pollutant Section, Air Programs Branch (AR-18J), EPA Region 5, 77 West Jackson Boulevard, Chicago, Illinois 60604, (312) 886-6052 rosenthal.steven@epa.gov.

SUPPLEMENTARY INFORMATION: For additional information, see the Direct Final notice which is located in the Rules section of this Federal Register. Copies of the request and the EPA's analysis are available for inspection at the above address. (Please telephone Steven Rosenthal at (312) 886-6052 before visiting the Region 5 Office.)

Dated: June 18, 2004.
Norman Niedergang,
Acting Regional Administrator, Region 5.

[FR Doc. 04-17166 Filed 7-27-04; 8:45 am]

BILLING CODE 6560-50-P